DEPARTMENT OF TRANSPORTATION

Federal Aviation Administration

14 CFR Part 71

[Docket No. FAA-2011-0425; Airspace Docket No. 11-ANM-9]

Amendment of Class D and Modification of Class E Airspace; Grand Junction, CO

AGENCY: Federal Aviation Administration (FAA), DOT.

ACTION: Final rule.

SUMMARY: This action modifies Class E airspace at Grand Junction, CO. Additional controlled airspace is necessary to facilitate vectoring of Instrument Flight Rules (IFR) traffic from Grand Junction Regional Airport to en route and enhances the safety and management of aircraft operations at the airport. This action also amends Class D and Class E airspace to update the airport name from Grand Junction, Walker Field.

DATES: Effective date, 0901 UTC, December 15, 2011. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On July 8, 2011, the FAA published in the Federal Register a notice of proposed rulemaking to amend controlled airspace at Grand Junction, CO (76 FR 40293). Interested parties were invited to participate in this rulemaking effort by submitting written comments on the proposal to the FAA. No comments were received.

Class D and Class E airspace designations are published in paragraph 5000, 6002, 6004 and 6005, respectively, of FAA Order 7400.9V dated August 9, 2011, and effective September 15, 2011, which is incorporated by reference in 14 CFR 71.1. The Class D and Class E airspace designations listed in this document will be published subsequently in that Order.

The Rule

This action amends Title 14 Code of Federal Regulations (14 CFR) Part 71 by modifying Class E airspace at Grand Junction Regional Airport, Grand Junction, CO. Additional controlled airspace extending upward from 1,200 feet above the surface is necessary to accommodate vectoring IFR aircraft departing Grand Junction Regional Airport to en route airspace. This action also amends Class D and Class E airspace to update the airport name from Grand Junction, Walker Field, to Grand Junction Regional Airport, Grand Junction, CO.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it creates additional controlled airspace at Grand Junction Regional Airport, Grand Junction, CO.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR Part 71.1 of the Federal Aviation Administration Order 7400.9V, Airspace Designations and Reporting Points, dated August 9, 2011, and effective September 15, 2011 is amended as follows:

Paragraph 5000 Class D airspace.

* * * * *

ANM CO D Grand Junction, CO [Amended]

Grand Junction Regional Airport, CO

(Lat. 39°07′21″ N., long. 108°31′36″ W.)

That airspace extending upward from the surface to and including 7,400 feet MSL within a 4.7-mile radius of Grand Junction Regional Airport. This Class D airspace area is effective during the specific dates and times established in advance by a Notice to Airmen. The effective date and time will thereafter be continuously published in the Airport/Facility Directory.

Paragraph 6002 Class E airspace designated as surface areas.

* * * * *

ANM CO E2 Grand Junction, CO [Amended]

Grand Junction Regional Airport, CO

(Lat. 39°07′21″ N., long. 108°31′36″ W.)

Within a 4.7-mile radius of Grand Junction Regional Airport. This Class E airspace area is effective during the specific dates and times established in advance by a Notice to Airmen. The effective date and time will thereafter be continuously published in the Airport/Facility Directory.

Paragraph 6004 Class E airspace designated as an extension to a Class D surface area.

* * * * *

ANM CO E4 Grand Junction, CO [Amended]

Grand Junction Regional Airport, CO

(Lat. 39°07′21” N., long. 108°31′36″ W.)

Grand Junction Localizer

(Lat. 39°07′04″ N., long. 108°30′48″ W.)

That airspace extending upward from the surface within 1.8 miles each side of the Grand Junction Regional Airport Runway 11 ILS localizer northwest course extending from the 4.7-mile radius of Grand Junction Regional Airport to 7 miles northwest of the localizer.

Paragraph 6005 Class E airspace areas extending upward from 700 feet or more above the surface of the earth.

* * * * *

ANM CO E5 Grand Junction, CO [Modified]

Grand Junction Regional Airport, CO

(Lat. 39°07′21″ N., long. 108°31′36″ W.)

Grand Junction VOR/DME

(Lat. 39°03′34″ N., long. 108°47′33″ W.)

That airspace extending upward from 700 feet above the surface within 7 miles northwest and 4.3 miles southeast of the Grand Junction VOR/DME 247° and 067° radials extending from 11.4 miles southwest to 12.3 miles northeast of the VOR/DME, and within 1.8 miles south and 9.2 miles north of the Grand Junction VOR/DME 110° radial extending from the VOR/DME to 19.2 miles southeast; that airspace extending upward from 1,200 feet above the surface within a 33.1-mile radius of the Grand Junction VOR/DME beginning at the 020° bearing of the Grand Junction VOR/DME, clockwise to the 270° bearing of the Grand Junction VOR/DME, and within a 63-mile radius of the Grand Junction VOR/DME beginning at the 270° bearing of the Grand Junction VOR/DME, clockwise to the 020° bearing of the Grand Junction VOR/DME.

Issued in Seattle, Washington, on September 1, 2011.
Robert Henry,
Acting Manager, Operations Support Group, Western Service Center.

[FR Doc. 2011-23298 Filed 9-14-11; 8:45 am]

BILLING CODE 4910-13-P